DEPARTMENT OF ENERGY

Federal Energy Regulatory Commission

[Project No. 15271-000]

Premium Energy Holdings, LLC; Notice of Preliminary Permit Application Accepted for Filing and Soliciting Comments, Motions To Intervene, and Competing Applications

On March 31, 2022, Premium Energy Holdings, LLC filed an application for a preliminary permit, pursuant to section 4(f) of the Federal Power Act (FPA), proposing to study the feasibility of the Twitchell Pumped Storage Hydro Project to be located approximately 6 miles northeast of Santa Maria, California in the limits between San Luis Obispo and Santa Barbara Counties. The sole purpose of a preliminary permit, if issued, is to grant the permit holder priority to file a license application during the permit term. A preliminary permit does not authorize the permit holder to perform any land-disturbing activities or otherwise enter upon lands or waters owned by others without the owners' express permission.

The proposed project would consist of the following: (1) a new upper reservoir located either, on the western side of the Sierra Madre Mountains in Santa Barbara County, California, with a maximum elevation of 1,788 feet average mean sea level, with a surface area of 72 acres and a storage capacity of 7,150 acre-feet (alternative 1), or a new reservoir 0.5 mile west of Twitchell Lake with a maximum elevation of 1,296 feet average mean sea level, with a surface area of 83 acres and a storage capacity of 11,400 acre-feet (alternative 2); (2) an existing lower reservoir (Twitchell Reservoir), with an elevation of 592 feet average mean sea level, a surface area of approximately 400 acres and a storage capacity of 197,756 acre-feet; (3) either a 0.32-mile-long headrace tunnel, 0.07-mile-long vertical shaft, 2.20-mile-long horizontal tunnel, 0.03-mile-long penstock, and 0.46-mile-long tailrace tunnel (alternative A), or a 0.16-mile-long headrace tunnel, 0.04-mile-long vertical shaft, 1.10-mile-long horizontal tunnel, 0.02-mile-long penstock, and 0.23-mile long tailrace tunnel (alternative B) connecting the reservoirs to the powerhouse, with a maximum head of 704 or 1,196 feet depending on the selected upper reservoir; (4) either a new 9-mile-long 230-kilovolt (kV) line and 2.5 miles of SCE's existing right of way that will interconnect the project with the existing PG&E transmission system at the Mesa Substation (alternative 1), or a 230-kV line that would be installed that would interconnect at a future substation that would be a part of the Central California Power Connect project (alternative 2); (5) a new powerhouse that would house 4 new pump-turbines rated at 150 megawatts each; (6) a new substation installed on the northern or southern side of the Twitchell Reservoir depending on the upper reservoir alternatives, close to the powerhouse; and (7) appurtenant facilities. The estimated annual power generation at the Twitchell Pumped Storage Project would be 1,200,000 megawatt-hours.

Applicant Contact: Victor M. Rojas, Managing Director, Premium Energy Holdings, LLC. 355 South Lemon Ave., Suite A, Walnut, California 91789; phone: (909) 595-5314; victor.rojas@pehllc.net.

FERC Contact: Benjamin Mann; email: benjamin.mann@ferc.gov; phone: (202) 502-8127.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15271.

More information about this project, including a copy of the application, can be viewed or printed on the “eLibrary” link of Commission's website at http://www.ferc.gov/docs-filing/elibrary.asp. Enter the docket number (P-15271) in the docket number field to access the document. For assistance, contact FERC Online Support.

Dated: January 19, 2023.
Kimberly D. Bose,
Secretary.

[FR Doc. 2023-01489 Filed 1-25-23; 8:45 am]

BILLING CODE 6717-01-P